DEPARTMENT OF COMMERCE

International Trade Administration

[C-357-817, C-351-835, C-427-823, C-580-849]

Certain Cold-Rolled Carbon Steel Flat Products From Argentina, Brazil, France, and the Republic of Korea: Extension of Time Limit for Preliminary Determinations in Countervailing Duty Investigations

AGENCY: Import Administration, International Trade Administration, Department of Commerce.

ACTION: Notice of extension of time limit for preliminary determinations in countervailing duty investigations.

SUMMARY: The Department of Commerce is extending the time limit of the preliminary determinations in the countervailing duty investigations of certain cold-rolled carbon steel flat products from Argentina, Brazil, France, and the Republic of Korea from January 28, 2002 until no later than February 25, 2002. This extension is made pursuant to section 703(c)(1)(B) of the Tariff Act of 1930, as amended by the Uruguay Round Agreements Act.

EFFECTIVE DATE: January 24, 2002.

FOR FURTHER INFORMATION CONTACT: Suresh Maniam (Argentina and France), at (202) 482-0176; Sean Carey (Brazil), at (202) 482-3964; and Tipten Troidl (the Republic of Korea), at (202) 482-1767, Import Administration, U.S. Department of Commerce, 14th Street and Constitution Avenue, NW, Washington, DC 20230.

SUPPLEMENTARY INFORMATION:

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to 19 CFR part 351 (2001).

Extension of Due Date for Preliminary Determinations

On October 18, 2001, the Department of Commerce (“the Department”) initiated the countervailing duty (“CVD”) investigations of certain cold-rolled carbon steel flat products from Argentina, Brazil, France, and the Republic of Korea. See Notice of Initiation of Countervailing Duty Investigations: Certain Cold-Rolled Carbon Steel Flat Products From Argentina, Brazil, France, and the Republic of Korea, 66 FR 54218 (October 26, 2001). The initial deadline for these preliminary determinations was December 22, 2001. On November 30, 2001, we issued a notice partially extending these preliminary determinations until January 28, 2002. See Certain Cold-Rolled Carbon Steel Flat Products from Argentina, Brazil, France, and the Republic of Korea: Extension of Time Limit for Preliminary Determinations in Countervailing Duty Investigations, 66 FR 63523 (December 7, 2001) (“Preliminary Postponement”). Pursuant to section 703(c)(1)(B) of the Act, we find that, because of the continued, “extraordinarily complicated” nature of these investigations, we must extend the preliminary determinations deadline for the full 130 days.

Under section 703(c)(1)(B), the Department can extend the period for reaching a preliminary determination until not later than the 130th day after the date on which the administering authority initiates an investigation if:

(B) The administering authority concludes that the parties concerned are cooperating and determines that

(i) The case is extraordinarily complicated by reason of

(I) The number and complexity of the alleged countervailable subsidy practices;

(II) The novelty of the issues presented;

(III) The need to determine the extent to which particular countervailable subsidies are used by individual manufacturers, producers, and exporters; or

(IV) The number of firms whose activities must be investigated; and

(ii) Additional time is necessary to make the preliminary determination.

Regarding the first requirement, we find that in each case all concerned parties are cooperating. Regarding the second requirement for extraordinarily complicated cases, it is the Department's position that the appropriate criterion for analysis is not the number of programs in question, but rather, the specific transactions, e.g., equity infusions, debt-to-equity conversions, etc., applied under those programs, which are numerous and appropriately categorized as “practices.” With respect to the issue of the complexity of the practice, these practices are complex in nature as reflected in the extensive analysis required to address these subsidies. Therefore, we find that each of these four cases is extraordinarily complicated as described below.

Argentina

As stated in the Preliminary Postponement, the Argentine investigation is extraordinarily complicated because a number of the alleged countervailable subsidies practices are complex or novel. This continues to be the case. Also, in addition to the reasons stated in the Preliminary Postponement, the recent political turmoil in Argentina has made it difficult for the Government of Argentina to provide complete responses to the Department's questionnaire.

Brazil

As stated in the Preliminary Postponement, the Brazil investigation is extraordinarily complicated because a number of newly alleged countervailable subsidies practices are complex or novel. This continues to be the case. In order to properly analyze these new allegations, the Department has asked several detailed supplemental questions regarding complex tax provisions which will not be due earlier than January 24, 2002. The answers to these questions will require complicated analysis and will be necessary for the Department to make its preliminary determination.

France

As stated in the Preliminary Postponement, the French investigation is extraordinarily complicated because a number of the alleged countervailable subsidies practices are complex or novel. This continues to be the case. In addition, the Department has asked several detailed supplemental questions which were due on January 16, 2002. The answers to the supplemental questions will require complicated analysis and will be necessary for the Department to make its preliminary determination.

The Republic of Korea

As stated in the Preliminary Postponement, the Korean investigation is extraordinarily complicated because a number of the alleged countervailable subsidies practices are complex or novel. This continues to be the case. In addition, the Department is issuing supplemental questionnaires. The answers to the supplemental questions will require complicated analysis and will be necessary for the Department to make its preliminary determination.

Accordingly, we deem these investigations to be extraordinarily complicated and determine, with regard to the third requirement noted above, that additional time is necessary to make the preliminary determinations. Therefore, pursuant to section 703(c)(1)(B) of the Act, we are postponing the preliminary determinations in these investigations for an additional 28 days to no later than February 25, 2002.

This notice is published pursuant to section 703(c)(2) of the Act.

Dated: January 18, 2002.
Faryar Shirzad,
Assistant Secretary for Import Administration.

[FR Doc. 02-1792 Filed 1-23-02; 8:45 am]

BILLING CODE 3510-DS-P